FEDERAL COMMUNICATIONS COMMISSION

[CG Docket No. 10-51; FCC 10-88]

Structure and Practices of the Video Relay Service Program

AGENCY: Federal Communications Commission.

ACTION: Notice.

SUMMARY: In this document, the Commission reiterates that Interstate Telecommunications Relay Service (TRS) Fund (Fund) payments may be suspended to providers that do not submit to audits. The Commission is authorized to do so pursuant to its rules intended to protect the integrity of the Fund and to deter and detect waste, fraud, and abuse. The Commission and the Fund administrator have conducted some audits, but not all providers have submitted to the auditing process.

DATES: Effective July 13, 2010.

FOR FURTHER INFORMATION CONTACT: Gregory Hlibok, Consumer and Governmental Affairs Bureau at (202) 559-5158 (VP), or e-mail: Gregory.Hlibok@fcc.gov.

SUPPLEMENTARY INFORMATION: This is a summary of the Commission's Structure and Practices of the Video Relay Service Program, Declaratory Ruling, document FCC 10-88, adopted May 24, 2010, and released May 27, 2010, in CG Docket No. 10-51. Simultaneously with the Declaratory Ruling, the Commission also issued an Order and Notice and Proposed Rulemaking in CG Docket No. 10-51.

The full text of document FCC 10-88 and copies of any subsequently filed documents in this matter will be available for public inspection and copying during regular business hours at the FCC Reference Information Center, Portals II, 445 12th Street, SW., Room CY-A257, Washington, DC 20554. Document FCC 10-88 and copies of subsequently filed documents in this matter may also be purchased from the Commission's duplicating contractor at Portals II, 445 12th Street, SW., Room CY-B402, Washington, DC 20554. Customers may contact the Commission's duplicating contractor at its Web site http://www.bcpiweb.com or by calling 1-800-378-3160. To request materials in accessible formats for people with disabilities (Braille, large print, electronic files, audio format), send an e-mail to fcc504@fcc.gov or call the Consumer and Governmental Affairs Bureau at (202) 418-0530 (voice) or (202) 418-0432 (TTY). Document FCC 10-88 can also be downloaded in Word or Portable Document Format (PDF) at: http://www.fcc.gov/cgb/dro/trs.html#orders.

Synopsis

The TRS mandatory minimum standards expressly provide that the “Commission shall have the authority to audit providers and have access to all data, including carrier specific data, collected by the Fund administrator.” The Commission's rules also state that the “[F]und administrator shall have authority to audit TRS providers reporting data to the administrator.” Further, the rules state that “the administrator shall establish procedures to verify payment claims, and may suspend or delay payments to a TRS provider if the TRS provider fails to provide adequate verification of payment upon reasonable request, or if directed by the Commission to do so.” Finally, the rules state that the “Fund administrator shall make payments only to eligible TRS providers operating pursuant to the mandatory minimum standards as required in § 64.604 [of the Commission's rules].” These rules are intended to protect the integrity of the Fund and to deter and detect waste, fraud, and abuse.

The Commission and the TRS Fund administrator have conducted some audits, but not all providers have submitted to the auditing process. Therefore, the Commission reminds providers that the above-cited rules, which provide for the suspension or delay of payments to TRS providers who do not provide verification of payment upon reasonable request, authorize the Commission to withhold payment from providers who do not submit to audits, whether requested by the Commission or the Fund administrator.

Congressional Review Act

The Commission will send a copy of document FCC 10-88 in a report to be sent to Congress and the Government Accountability Office pursuant to the Congressional Review Act, see 5 U.S.C. 801(a)(1)(A).

Ordering Clauses

Pursuant to sections 1, 4(i) and (o), 225, 303(r), 403, 624(g), and 706 of the Communications Act of 1934, as amended, 47 U.S.C. 151, 154(i) and (o), 225, 303(r), 403, 554(g), and 606, document FCC 10-88 is adopted.

The Commission's Consumer and Governmental Affairs Bureau, Reference Information Center, shall send a copy of document FCC 10-88 to the Chief Counsel for Advocacy of the Small Business Administration.

Federal Communications Commission.
Marlene H. Dortch,
Secretary.

[FR Doc. 2010-17075 Filed 7-12-10; 8:45 am]

BILLING CODE 6712-01-P